DEPARTMENT OF LABOR

Occupational Safety and Health Administration

[Docket No. MACOSH 2002-2]

Maritime Advisory Committee for Occupational Safety and Health (MACOSH); Request for Nominations

AGENCY: Occupational Safety and Health Administration (OSHA), Labor.

ACTION: Request for nominations for persons to serve on MACOSH.

SUMMARY: The Secretary of Labor intends to reestablish the charter of the Maritime Advisory Committee for Occupational Safety and Health (MACOSH), which expired on March 10, 2002. The purpose of MACOSH is to obtain advice for the Assistant Secretary of Labor for Occupational Safety and Health (Assistant Secretary) from a broad range of representatives from the maritime industry on all matters relevant to the safety and health of workers in that sector. The Assistant Secretary will seek the advice of this committee on activities in the maritime industry related to the priorities set for the agency, including: strong, fair and effective enforcement; expanded compliance assistance, guidance and outreach; expanded partnerships and voluntary programs; leadership in the national dialogue on occupational safety and health; and regulatory matters affecting the maritime industry, as appropriate.

The committee will be diverse and balanced, both in terms of segments of the maritime industry represented (e.g., shipyard and longshoring industries), and in the views or interests represented by the members (employer, employee, safety and health professional organizations, government organizations with interests or activities related to the maritime industry, academia, and the public). OSHA invites interested parties to submit nominations for membership on MACOSH.

DATES: Nominations for MACOSH membership (whether hard copy, electronic mail or facsimile) must be received by August 5, 2002.

ADDRESSES: Nominations may be submitted in hard copy, electronic mail, or facsimile.

Submitting nominations in hard copy: Nominations for membership on the Committee may be hand-delivered, or sent by Express Mail or other overnight delivery service, to: U.S. Department of Labor, OSHA Docket Office, Docket MACOSH 2002-2, Room N-2625, 200 Constitution Ave., NW., Washington, DC 20210, Telephone: (202) 693-2350.

Submitting nominations electronically: Nominations for membership on the Committee may be sent electronically from the OSHA website at http://ecomments.osha.gov. Nominations may also be faxed to the OSHA Docket Office at (202) 693-1648.

FOR FURTHER INFORMATION CONTACT: Director, Office of Maritime Standards, U.S. Department of Labor, Occupational Safety and Health Administration, Room N-3621, 200 Constitution Avenue, NW., Washington, DC 20210; Telephone: (202) 693-2222.

SUPPLEMENTARY INFORMATION:

1. Background

The maritime industry has historically been a sector that has a high incidence of illnesses and injuries in its workforce. The types of work performed can be quite different in various parts of the industry, ranging from manufacturing type work in shipyards to longshoring operations. OSHA has targeted this industry for special attention because of the incidence of illnesses and injuries, and the specialized nature of some of the work. This targeting has included development of guidance or outreach materials specific to the industry, as well as rulemaking to update requirements, and other activities to help focus actions in the industry and reduce the occurrence of illnesses and injuries. This committee will be used to advise OSHA on these ongoing activities, as well as in new areas where the agency chooses to pursue or expand its programs and projects to further address these specific needs. The advice of the committee will help the agency in terms of substantive input on conditions in the industry, ideas that could be implemented to reduce illnesses and injuries, and feedback on agency initiatives in the maritime industry.

II. Nominations

The Committee will consist of at least 12 members. The Agency encourages the nomination of individuals who can represent a broad range of relevant areas as possible Committee members. The Committee will fairly balanced in terms of the points of view represented and the functions to be performed. OSHA is requesting that the Committee be chartered for a two year period. OSHA anticipates that during its two-year term, the Committee will meet no more than 3 times per year.

The Committee will function solely as an advisory body, and in compliance with the provisions of Section 7(b) of the OSHA Act (29 U.S.C. 656), the Federal Advisory Committee Act (5 U.S.C. App. 2), and 41 CFR part 102-3.

Nominees for committee membership should be qualified by experience, knowledge, and expertise. Interested persons may nominate themselves or others for membership on the Committee. Each nomination must include: (1) The name of the nominee; (2) the address, phone number, title, position, experience, qualifications and resume of the nominee; and (3) a written commitment from the nominee that he/she can and will attend regular meetings of the Committee and participate in good faith. In addition, please include an e-mail address or fax number, so that the Agency may acknowledge that it has received your nomination. (For information on dates and addresses for submitting nominations, see the DATES and ADDRESSES section of this notice, above.) Because of security-related problems in receiving regular mail service in a timely manner, OSHA requests that nominations be hand-delivered to the Docket Office, or sent by Express Mail or other overnight delivery service, electronic mail, or facsimile. Please do not send nominations by more than one of these media.

Consistent with the Department's recently-issued procedural rule on OSHA Advisory Committees (67 FR 658, 1/7/02), appointment of a person to this Advisory Committee for a fixed time period shall not affect the authority of the Assistant Secretary to remove, in his discretion, any member at any time. If a member resigns or is removed before his or her term expires, the Assistant Secretary may appoint for the remainder of the unexpired term a new member who shall represent the same interest as his or her predecessor.

III. Authority

This notice was prepared under the direction of John L. Henshaw, Assistant Secretary for Occupational Safety and Health. It is issued under sections 6(b) and 7(b) of the Occupational Safety and Health Act of 1970 (29 U.S.C. 655, 656), the Federal Advisory Committee Act (FACA) (5 U.S.C. App. 2), and GSA's FACA Regulations (41 CFR Part 102-3).

John L. Henshaw,
Assistant Secretary of Labor.

[FR Doc. 02-15743 Filed 6-20-02; 8:45 am]

BILLING CODE 4510-26-M